DEPARTMENT OF LABOR

Employment and Training Administration

[TA-W-53,874]

Cascade West Sportswear, Inc., Puyallup, Washington; Notice of Termination of Investigation

Pursuant to section 221 of the Trade Act of 1974, as amended, an investigation was initiated on December 23, 2003 in response to a petition filed by a company official on behalf of workers of Cascade West Sportswear, Inc., Puyallup, Washington.

The investigation revealed that the subject firm can be certified upon an amendment to a previous certification (TA-W-53,873). The workers at the subject firm were in support of the production facility previously certified under (TA-W-53,873). Consequently the investigation has been terminated.

Signed at Washington, DC, this 12th day of January, 2004.
Richard Church,
Certifying Officer, Division of Trade Adjustment Assistance.

[FR Doc. E4-242 Filed 2-9-04; 8:45 am]

BILLING CODE 4510-13-P